LIBRARY OF CONGRESS

Copyright Office

[Docket No. 2021-5]

Publishers' Protections Study: Request for Additional Comments

AGENCY: Copyright Office, Library of Congress.

ACTION: Notice of inquiry.

SUMMARY: The U.S. Copyright Office seeks further comments on the effectiveness of copyright protections for publishers, with a focus on press publishers. This request provides an opportunity for interested parties to raise new issues related to the topic of the study, amplify initial comments, present empirical studies, or to address, reply to, or expand upon any issues raised in the initial request for written comments—responses to which are due on or before November 26, 2021—or during the virtual public roundtable, which will be held on December 9, 2021. On November 29, 2021, the Office will post a link at https://copyright.gov/policy/publishersprotections/ through which parties can submit second-round comments.

DATES: Additional comments are due on or before January 5, 2022.

ADDRESSES: The Copyright Office is using the regulations.gov system for the submission and posting of public comments in this proceeding. All comments are therefore to be submitted electronically through regulations.gov. Specific instructions are available on the Copyright Office website at http://www.copyright.gov/policy/publishersprotections/. If electronic submission of comments is not feasible due to lack of access to a computer and/or the internet, please contact the Office using the contact information below, for special instructions.

FOR FURTHER INFORMATION CONTACT: Kimberley Isbell, Deputy Director of Policy and International Affairs, at kisbell@copyright.gov, or Andrew Foglia, Senior Counsel for Policy and International Affairs, at afoglia@copyright.gov. Both can be reached by telephone at 202-707-8350.

SUPPLEMENTARY INFORMATION: The United States Copyright Office is undertaking a public study at the request of Congress to evaluate current copyright protections for publishers. Among other issues, the Office is considering the effectiveness of publishers' existing rights in news content, including under the provisions of title 17 of the U.S. Code, as well as other federal and state laws; whether additional protections are desirable or appropriate; the possible scope of any such new protections, including how their beneficiaries could be defined; and how any such protections would interact with existing rights, exceptions and limitations, and international treaty obligations. On October 12, 2021, the Office published an initial request for comments on several questions related to these issues. It also announced that it would hold a virtual public roundtable on the same topics on December 9, 2021.

In the interests of gathering the fullest possible record on the question of copyright protections for publishers, with a focus on press publishers, the Office is now announcing an additional round of comments, responses to which are due on or before January 5, 2022. On November 29, 2021, the Office will post a link at https://copyright.gov/policy/publishersprotections/ through which parties can submit second-round comments. Comments submitted in this second round may address the same questions set forth in the October 12 notice, or any other issues related to the topic of the study. In submitting second-round comments, parties may raise new issues, amplify their initial comments, present empirical studies, or address, reply to, or expand upon any issues raised in the initial request for written comments or at the December 9, 2021 virtual public roundtable. As with the initial comments, the Office requests that parties submitting second-round comments identify their affiliation and the factual or legal basis for their responses.

Please note that the issuance of this notice does not mean that the deadline for submission of initial comments has expired. Initial comments may still be submitted through November 26, 2021. Additionally, a party does not have to have submitted initial comments or participated in the roundtable in order to submit second-round comments.

Dated: November 4, 2021.
Shira Perlmutter,
Register of Copyrights and Director of the U.S. Copyright Office.

[FR Doc. 2021-24506 Filed 11-8-21; 8:45 am]

BILLING CODE 1410-30-P